OFFICE OF PERSONNEL MANAGEMENT

5 CFR Part 890; 48 CFR Parts 1602, 1615, 1632, and 1652

RIN 3206-AM39

Federal Employees Health Benefits Program: New Premium Rating Method for Most Community Rated Plans; Withdrawal

AGENCY: U.S. Office of Personnel Management.

ACTION: Interim final rule; withdrawal.

SUMMARY: The U.S. Office of Personnel Management (OPM) is withdrawing an interim final regulation that appeared in the Federal Register of June 23, 2011 (76 FR 36857). The document amends the Federal Employees Health Benefits (FEHB) regulations at 5 CFR Chapter 89 and also the Federal Employees Health Benefits Acquisition Regulation (FEHBAR) at 48 CFR Chapter 16 and would replace the procedure by which premiums for community rated FEHB carriers are compared with the rates charged to a carrier's similarly sized subscriber groups (SSSGs).

DATES: The interim final rule published on Thursday, June 23, 2011 at 76 FR 36857 is withdrawn as of June 29, 2011.

FOR FURTHER INFORMATION CONTACT: Louise Dyer, Senior Policy Analyst, (202) 606-0770, or by e-mail to Louise.Dyer@opm.gov.

SUPPLEMENTARY INFORMATION: This rule is being withdrawn due to the version submitted to the Federal Register was incorrect and contained numerous errors. In today's issue of the Federal Register, you will find the correct version of the interim rule.

U.S. Office of Personnel Management.
Edward M. DeHarde,
Program Manager, National Healthcare Operations.

[FR Doc. 2011-16280 Filed 6-28-11; 8:45 am]

BILLING CODE 6325-24-P